DEPARTMENT OF LABOR

Employment and Training Administration

[TA-W-61,793]

Phillips Brothers, Inc., Springfield, IL; Notice of Termination of Investigation

Pursuant to section 221 of the Trade Act of 1974, as amended, an investigation was initiated on July 5, 2007 in response to a petition filed by a company official on behalf of workers at Phillips Brothers, Inc., Springfield, Illinois.

The petitioner has requested that the petition be withdrawn. Consequently, the investigation has been terminated.

Signed at Washington, DC this 27th day of July 2007.
Elliott S. Kushner,
Certifying Officer, Division of Trade Adjustment Assistance.

[FR Doc. E7-15852 Filed 8-13-07; 8:45 am]

BILLING CODE 4510-FN-P